DEPARTMENT OF HEALTH AND HUMAN SERVICES

Centers for Disease Control and Prevention

[Request for Application (RFA) AA004]

Maternal, Infant, and Reproductive Health: National and State Coalition Capacity Building; Notice of Availability of Funds—Amendment

A notice announcing the availability of Fiscal Year 2005 funds to award a Cooperative Agreement to improve reproductive health through the application of science-based approaches published in the Federal Register on March 23, 2005, Volume 70, Number 55, pages 14687 and 14693.

The notice is amended as follows:

On page 14687, First column, please change application deadline date to: June 3, 2005.

On page 14693, Second column, please change application deadline date to: June 3, 2005.

Dated: May 24, 2005.
Alan Kotch,
Acting Deputy Director, Procurement and Grants Office, Centers for Disease Control and Prevention.

[FR Doc. 05-10866 Filed 5-31-05; 8:45 am]

BILLING CODE 4163-18-P